DEPARTMENT OF COMMERCE

Foreign-Trade Zones Board

[Docket 26-2000]

Foreign-Trade Zone 93—Raleigh/Durham, NC; Application for Subzone Status, Pergo, Inc., Plant (Laminate—Particle Board Flooring); Garner, North Carolina

An application has been submitted to the Foreign-Trade Zones Board (the Board) by the Triangle J Council of Governments, grantee of FTZ 93, requesting special-purpose subzone status for the laminate-particle board flooring manufacturing plant of Pergo, Inc. (a subsidiary of Perstorp AB, of Sweden), located in Garner, North Carolina. The application was submitted pursuant to the provisions of the Foreign-Trade Zones Act, as amended (19 U.S.C. 81a-81u), and the regulations of the Board (15 CFR Part 400). It was formally filed on June 5, 2000.

The Pergo plant (102 acres/130,000 sq. ft.) is located within the Greenfield Industrial Park at 2000 Perstorp Parkway, Garner (Wake County), North Carolina, some 20 miles southeast of Raleigh. The facility (275 employees) is used to produce laminate-particle board flooring (HTSUS# 4410.19.0020), and to distribute foreign-made laminate flooring products with a particle board, paperboard, plastic, or other inorganic core for export and the U.S. market. The production process involves combining decorative plastic laminate and backing paper to particle board, which is then milled into tiles or planks. The completed flooring is then combined with moldings, glue and installation accessories to be shipped as a completed flooring system. The application indicates that additional laminate floor covering products may be produced with tileboard, paperboard, and/or polyurethane sheet in the future. Foreign-origin components used in manufacturing (currently 100%) include: sealants/adhesives/glue, fiberboard, particle board, decorative plastic laminate; and, backing paper and laminate. Additional foreign-sourced materials and components to be distributed with the completed laminate flooring include: Glues/sealants/caulking, installation kits, hand tools, cleaning kits; and, molding and trim of plastic, fiberboard and aluminum (duty rate range: free—6.0%).

FTZ procedures would exempt Pergo from Customs duty payments on the foreign materials and components used in export production. On its domestic sales of the manufactured flooring, the company would be able to choose the duty rate that applies to finished laminate-particle board flooring (duty free as particle board under 4410.19.0020) for the decorative plastic laminate raw material noted above. Pergo would be able to defer Customs duty payments on the foreign-origin finished flooring products and related materials that would be admitted to the proposed subzone for U.S. distribution. The application indicates that subzone status would help improve the plant's international competitiveness.

In accordance with the Board's regulations, a member of the FTZ Staff has been designated examiner to investigate the application and report to the Board.

Public comment on the application is invited from interested parties. Submissions (original and three copies) shall be addressed to the Board's Executive Secretary at the address below. The closing period for their receipt is August 14, 2000. Rebuttal comments in response to material submitted during the foregoing period may be submitted during the subsequent 15-day period (to August 28, 2000).

A copy of the application and the accompanying exhibits will be available for public inspection at each of the following locations:

Office of the Port Director, U.S. Customs Service—Raleigh/Durham, Suite 500, 120 South Center Court, Morrisville, NC 27560

Office of the Executive Secretary, Foreign-Trade Zones Board, U.S. Department of Commerce, Room 4008, 14th Street & Constitution Avenue, NW., Washington, DC 20230-0002

Dated: June 5, 2000.
Dennis Puccinelli,
Acting Executive Secretary.

[FR Doc. 00-14896 Filed 6-12-00; 8:45 am]

BILLING CODE 3510-DS-P